DEPARTMENT OF COMMERCE

Foreign-Trade Zones Board

[Docket 55-2004]

Foreign-Trade Zone 81—Portsmouth, NH, Application for Subzone Status, Millipore Corporation (Polyvinylidene Fluoride Filtering Devices), Jaffrey, NH

An application has been submitted to the Foreign-Trade Zones Board (the Board) by the Pease Development Authority (formerly the New Hampshire State Port Authority), grantee of FTZ 81, requesting special-purpose subzone status for the polyvinylidene fluoride filtering device manufacturing plant of Millipore Corporation (Millipore), located in Jaffrey, New Hampshire. The application was submitted pursuant to the provisions of the Foreign-Trade Zones Act, as amended (19 U.S.C. 81a-81u), and the regulations of the Board (15 CFR Part 400). It was formally filed on November 30, 2004.

The Millipore facility (52 acres/176,000 sq.ft.) is located at 11 Prescott Road in Jaffrey (Cheshire County), New Hampshire. The facility (430 employees) is used to produce polyvinylidene fluoride membrane filtering devices (classified under HTSUS 8421.21, 8421.22, 8421.29, 8421.39.80, 8421.99) under the Durapore® brand for export and the domestic market. The finished filtering devices include centrifugals, capsule filters, pressure/vacuum cartridge filters, tangential flow devices, cassettes, and stacked, cut-disc membrane filters used in the pharmaceutical, electronics, and food/beverage industries. The manufacturing process at the facility involves injection molding, lamination, pleating, trimming, assembly, finishing, testing, and warehousing. The plant has capacity to produce between 500,000 to 900,000 Durapore® filtration devices annually. The foreign-sourced material input to be used in the manufacture of the Durapore® products is polyvinylidene fluoride (PVDF) membrane (classified under HTSUS 3921.19.00, 6.5%), which represents between 70 to 98 percent of finished product material value.

FTZ procedures would exempt Millipore from Customs duty payments on the foreign-origin PVDF used in export production. On its domestic shipment and exports to NAFTA markets, the company would be able to elect the duty rate that applies to finished Durapore® filters (duty free) for the foreign PVDF membrane shipped from the plant as part of the filtration products. Duties would be deferred or reduced on foreign production equipment admitted to the proposed subzone until which time it becomes operational. The application indicates that subzone status would help improve the plant's international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building-4100W, 1099 14th Street, NW., Washington, DC 20005; or,

2. Submissions via the U.S. Postal Service: Foreign-Trade Zones Board, U.S. Department of Commerce, FCB-4100W, 1401 Constitution Ave., NW., Washington, DC 20230.

The closing period for their receipt is February 7, 2005. Rebuttal comments in response to material submitted during the foregoing period may be submitted during the subsequent 15-day period (to February 22, 2005).

A copy of the application will be available for public inspection at the Office of the Foreign-Trade Zones Board's Executive Secretary at address No. 1 listed above and at the Commerce Department's Export Assistance Center, 17 New Hampshire Avenue, Portsmouth, NH 03801.

Dated: November 30, 2004.
Dennis Puccinelli,
Executive Secretary.

[FR Doc. 04-26975 Filed 12-7-04; 8:45 am]

BILLING CODE 3510-DS-P